SECURITIES AND EXCHANGE COMMISSION

[Release No. PA-33; File No. S7-09-03]

Privacy Act of 1974: Establishment of a New System of Records: Emergency Contingency Plan System (SEC-51)

AGENCY: Securities and Exchange Commission.

ACTION: Notice of the establishment of a new system of records.

SUMMARY: In accordance with the requirements of the Privacy Act of 1974, as amended, 5 U.S.C. 552a, the Securities and Exchange Commission (“SEC” or “Commission”) gives notice of a proposed new system of records entitled Emergency Contingency Plan System (SEC-51).

DATES: Information may be collected for the new system of records beginning on April 30, 2003. Comments on the proposed routine uses of the information must be received by May 30, 2003, and the routine uses will take effect June 9, 2003, unless the Commission receives comments that would require a different determination.

ADDRESSES: Please send three copies of your comments to Jonathan G. Katz, Secretary, SEC, 450 Fifth Street, NW., Washington, DC 20549-0609. You may also send your comments electronically to the following electronic address: rule-comments@sec.gov. All comments should refer to File No. S7-09-03 and, if sent electronically, should include this file number on the subject line. Comment letters will be available for public inspection and copying at our Public Reference Room, 450 Fifth Street, NW., Washington, DC 20549. If sent electronically, comment letters will also be available on our Web site (http://www.sec.gov).

FOR FURTHER INFORMATION CONTACT: Dana Schlichtmann, Office of the Executive Director, Securities and Exchange Commission, 450 5th Street, NW., Washington, DC 20549-1101, (202) 942-4305.

SUPPLEMENTARY INFORMATION: The Commission gives notice of a new system of records, which is subject to the Privacy Act. The proposed system of records will maintain specified contact information on current members and employees of the Commission who may be contacted in emergency circumstances. The new system of records report, as required by 5 U.S.C. 552a(r) of the Privacy Act, has been submitted to the Committee on Government Reform of the House of Representatives, the Committee on Governmental Affairs of the Senate, and the Office of Management and Budget, pursuant to Appendix I to OMB Circular A-130, Federal Agency Responsibilities for Maintaining Records About Individuals, as amended on February 20, 1996 (61 FR 6435).

Accordingly, the Commission is adding the following system of records.

SEC-51

System Name:

Emergency Contingency Plan System.

System Location:

SEC, 450 Fifth Street, NW., Washington, DC 20549.

Categories of Individuals Covered by the System:

Members and employees of the Commission.

Categories of Records in the System:

Name; job title; organizational code number; work and home addresses; work and personal electronic mail addresses; work, home, and cellular telephone numbers; pager numbers.

Authority for Maintenance of the System:

5 U.S.C. 301, Executive Order 12656 (Nov. 18, 1988), Assignment of Emergency Preparedness Responsibilities.

Purpose(s):

The purpose of this system of records is to maintain emergency contact information for current members and employees of the Commission for use in developing and maintaining emergency contingency operations plans, such as a formal continuity of operations (COOP) plan, for the Commission. This data will be used for alert and notification purposes, determining team and task assignments, developing and maintaining an emergency contact system for general emergency preparedness programs and specific situations. COOP activities involve ensuring the continuity of minimum essential agency functions through plans and procedures governing succession to office and the emergency delegation of authority (where permissible). Other emergency contingency plans include plans for Commission-wide response to threat alerts issued by the Department of Homeland Security (DHS).

Routine Uses of Records Maintained in the System, Including Categories of Users and the Purposes of Such Uses:

In addition to the conditions of disclosure under 5 U.S.C. 552a(b), Commission staff may provide these records to any Federal government authority for the purpose of coordinating and reviewing agency continuity of operations plans or emergency contingency plans developed for responding to Department of Homeland Security threat alerts.

Policies and Practices for Storing, Retrieving, Accessing, Retaining, and Disposing of Records in the System:

Storage:

These records are maintained on paper and in electronic format.

Retrievability:

These records are retrievable by individual's names, or by the categories listed above under “Categories of Records in the System.”

Safeguards:

Access to the records is restricted to those who require the records in the performance of official duties related to the purposes for which the system is maintained.

Retention and Disposal:

Periodic purging and disposal of those records concerning individuals no longer members or employees of the Commission. Otherwise, records are retained and disposed of in accordance with the appropriate National Archives and Records Administration General Records Schedules.

System Manager(s) and Address:

Executive Director, Office of the Executive Director, Securities and Exchange Commission, 450 Fifth Street, NW., Washington, DC 20549-1101.

Notification Procedure:

Requests to determine whether this system of records contains a record pertaining to the requesting individual should be sent to the Privacy Act Officer, SEC, Operations Center, 6432 General Green Way, Alexandria, VA 22312-2413.

Records Access Procedures:

Persons wishing to access or contest these records should write the Privacy Act Officer, SEC, Operations Center, 6432 General Green Way, Alexandria, VA 22312-2413.

Contesting Record Procedures:

See Records Access Procedures, above.

Record Source Categories:

Records are obtained from the position control system and from the individual.

Exemptions Claimed for the System:

None.

By the Commission.
Dated: April 23, 2003.
J. Lynn Taylor,
Assistant Secretary.

[FR Doc. 03-10601 Filed 4-29-03; 8:45 am]

BILLING CODE 8010-01-P